ENVIRONMENTAL PROTECTION AGENCY

[ER-FRL-9056-9]

Environmental Impact Statements; Notice of Availability

Responsible Agency: Office of Federal Activities, General Information 202-564-5632 or https://www.epa.gov/nepa.

Weekly receipt of Environmental Impact Statements (EIS)

Filed May 28, 2021 10 a.m. EST Through June 7, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210066, Draft, FRA, NY, Western Rail Yard Infrastructure Project, Comment Period Ends: 07/26/2021, Contact: Andrea E. Poole 202-493-0624.

EIS No. 20210067, Final, FRA, NJ, Hudson Tunnel Project—Combined Final Environmental Impact Statement/Record of Decision and Final Section 4(f) Evaluation, Contact: Amishi Castelli 617-431-0416. Under 23 U.S.C. 139(n)(2), FRA is issuing a single document that consists of a final environmental impact statement and record of decision. Therefore, the review period does not apply.

EIS No. 20210068, Draft, BLM, CA, Whitewater River Groundwater Replenishment Facility Right of Way Project, Comment Period Ends: 07/26/2021, Contact: Brandon G. Anderson 951-697-5215.

EIS No. 20210069, Draft, USCG, ND, BNSF Railway Bridge 196.6 Project across the Missouri River, Morton and Burleigh Counties, Between Bismarck and Mandan, North Dakota, Comment Period Ends: 07/26/2021, Contact: Rob McCaskey 314-269-2381.

EIS No. 20210070, Final, USACE, CA, Lower Cache Creek, Yolo County, Woodland and Vicinity, CA, Flood Risk Management Feasibility Study, Review Period Ends: 07/12/2021, Contact: Keleigh Duey 916-557-5131.

EIS No. 20210071, Draft, USACE, LA, St. Tammany Parish, Louisiana Feasibility Study, Comment Period Ends: 07/26/2021, Contact: Everard Baker 504-862-1014.

Dated: June 7, 2021.
Candi Schaedle,
Acting Director, NEPA Compliance Division, Office of Federal Activities.

[FR Doc. 2021-12293 Filed 6-10-21; 8:45 am]

BILLING CODE 6560-50-P